DEPARTMENT OF TRANSPORTATION

Surface Transportation Board

49 CFR Parts 1002, 1011, and 1182

[STB Finance Docket No. 33685]

Class Exemption for Motor Passenger Intra-Corporate Family Transactions

AGENCY: Surface Transportation Board.

ACTION: Final Rules.

SUMMARY: The Surface Transportation Board (Board) adopts final rules exempting intra-corporate family transactions of motor carriers of passengers that do not result in significant operational changes, adverse changes in service levels, or a change in the competitive balance with carriers outside the corporate family. Exemption of this class of transaction meets the exemption criteria of 49 U.S.C. 13541 because specific approval under 49 U.S.C. 14303 is not necessary. The Board is also making changes to its regulations concerning fees and delegation of authority.

EFFECTIVE DATE: March 19, 2000.

FOR FURTHER INFORMATION CONTACT: Beryl Gordon, (202) 565-1600. [Assistance for the hearing impaired is available through TDD/TDY services at 1-800-877-8339.]

SUPPLEMENTARY INFORMATION: Additional information is contained in the Board's decision. To obtain a copy of the full decision, write to, call or pick up in person from Dā-To-Dā Office Solutions, Mercury Building, 1925 K Street, N.W., Room 210, Washington, DC 20006. Until further notice, Dā-To-Dā Office Solutions' telephone number in the Mercury Building will be (202) 289-4357. In addition, Board decisions and notices are available on our website at “WWW.STB.DOT.GOV.”

Regulatory Flexibility Analysis

The Board concludes that these rules will not have a significant economic effect on a substantial number of small entities. The procedures established are simple and expeditious and impose no new reporting requirements on small entities. The rules protect all parties by providing for revoking the exemption for violations of the rules or the statute.

Environmental and Energy Considerations

This action will not significantly affect either the quality of the human environment or the conservation of energy resources.

List of Subjects

49 CFR Part 1002

Administrative practice and procedure, Common Carriers, Freedom of Information, User Fees.

49 CFR Part 1011

Administrative practice and procedure, Authority delegations (Government agencies), Organization and functions (Government agencies).

49 CFR Part 1182

Administrative practice and procedure, Motor Carriers.

Decided: February 11, 2000.
By the Board, Chairman Morgan, Vice Chairman Burkes, and Commissioner Clyburn.
Vernon A. Williams,
Secretary.

For the reasons set forth in the preamble, Title 49, Parts 1002 and 1182 of the Code of Federal Regulations are amended to read as follows:

PART 1002—FEES

1. The authority citation for Part 1002 continues to read as follows:

Authority: 5 U.S.C. 552(a)(4)(A) and 553; 31 U.S.C. 9701; and 49 U.S.C. 721(a).

2. Section 1002.2 is amended by adding paragraph (f)(6) to read as follows:

§ 1002.2 Filing fees.

* * * * *

(f) * * *

Type of Proceeding | Fee
* * * * *
(6) A notice of exemption for transaction within a motor passenger corporate family that does not result in adverse changes in service levels, significant operational changes, or a change in the competitive balance with motor passenger carriers outside the corporate family | 1,100
* * * * *

PART 1011—BOARD ORGANIZATION; DELEGATIONS OF AUTHORITY

3. The authority citation for Part 1011 continues to read as follows:

Authority: 5 U.S.C. 553; 31 U.S.C. 7901; and 49 U.S.C. 701, 721, 11144, 14122, and 15721.

4. In § 1011.8(c)(11), remove “10505” and add in its place “10502'.

5. In § 1011.8, redesignate paragraphs (c)(12) to (c)(17) as paragraphs (c)(13) to (c)(18), and add a new paragraph (c)(12) to read as follows:

§ 1011.8 Delegations of authority by the Board to specific offices of the Board.

* * * * *

(c) * * *

(12) Whether to issue a notice of exemption under 49 U.S.C. 13541 for a transaction under 49 U.S.C. 14303 within a motor passenger corporate family that does not result in adverse changes in service levels, significant operational changes, or a change in the competitive balance with motor passenger carriers outside the corporate family.

* * * * *

PART 1182—PURCHASE, MERGER, AND CONTROL OF MOTOR PASSENGER CARRIERS

1. The authority citation for part 1182 is revised to read as follows:

Authority: 5 U.S.C. 559; 21 U.S.C. 853a; and 49 U.S.C. 13501, 13541(a), 13902(c), and 14303.

2. Add § 1182.9 to read as follows:

§ 1182.9 Notices of Exemption.

(a) A transaction within a motor passenger corporate family is exempt from 49 U.S.C. 14303 if it does not result in adverse changes in service levels, significant operational changes, or a change in the competitive balance with motor passenger carriers outside the corporate family. The Board has found that its prior review and approval of these transactions is not necessary to carry out the transportation policy of 49 U.S.C. 13101; regulation is not necessary to protect shippers from abuse of market power; and an exemption is in the public interest. See 49 U.S.C. 13541(a).

(b) To qualify for a class exemption, a party must file a verified notice of the exempt transaction with the Board. The notice shall contain a brief summary of the proposed transaction, the name of the applicants, their business address and telephone number, and the name of counsel to whom questions would be addressed. The notice shall describe the purpose of the transaction and give the proposed consummation date for the transaction, which must be at least 7 days after the filing of the notice. The notice shall describe any contracts or agreements that have been entered into, or will be entered into, concerning the transaction, and shall indicate the impact, if any, that the transaction would have on employees.

(c) The Board shall publish notice of the exemption in the Federal Register within 30 days from the filing of the verified notice of exemption. If the notice contains false or misleading information, the Board shall summarily revoke the exemption and require divestiture. Petitions to revoke the exemption under 49 U.S.C. 13541(d) may be filed at any time and will be granted upon a finding that the application of 49 U.S.C. 14303 to the person, class, or transportation is necessary to carry out the transportation policy of 49 U.S.C. 13101.

[FR Doc. 00-3940 Filed 2-17-00; 8:45 am]

BILLING CODE 4915-00-P